DEPARTMENT OF COMMERCE

International Trade Administration

[A-469-814]

Chlorinated Isocyanurates From Spain: Final Results of Antidumping Duty Administrative Review; 2022-2023

AGENCY: Enforcement and Compliance, International Trade Administration, Department of Commerce.

SUMMARY: The U.S. Department of Commerce (Commerce) determines that sales of chlorinated isocyanurates (chlorinated isos) from Spain were not sold in the United States at less than normal value during the period of review (POR), June 1, 2022, through May 31, 2023.

DATES: Applicable February 4, 2025.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On July 9, 2024, Commerce published in the Federal Register the Preliminary Results of the 2022-2023 administrative review of the antidumping duty order on chlorinated isos from Spain.¹ On July 22, 2024, Commerce tolled certain deadlines in this administrative proceeding by seven days.² On October 31, 2024, Commerce extended the deadline for the final results of review until January 10, 2025.³ Additionally, on December 9, 2024, Commerce tolled the deadline to issue the final results in this administrative review by 90 days.⁴ Accordingly, the deadline for these final results is now April 10, 2025.

¹ See Chlorinated Isocyanurates from Spain: Preliminary Results of Antidumping Duty Administrative Review; 2022-2023, 89 FR 56295 (July 9, 2024) (Preliminary Results), and accompanying Preliminary Decision Memorandum (PDM).

² See Memorandum, “Tolling of Deadlines for Antidumping and Countervailing Duty Proceedings,” dated July 22, 2024 (barcode ACCESS code 4605486-01, dated July 29, 2024).

³ See Memorandum, “Extension of Deadline for Final Results of Antidumping Duty Administrative Review,” dated October 31, 2024.

⁴ See Memorandum, “Tolling of Deadlines for Antidumping and Countervailing Duty Proceedings,” dated December 9, 2024.

We invited interested parties to comment on the Preliminary Results; ⁵ however, no interested party submitted comments. Accordingly, the final results remain unchanged from the Preliminary Results, and thus, there are no decision memoranda accompanying this notice. Commerce conducted this administrative review in accordance with section 751(a) of the Tariff Act of 1930, as amended (the Act).

⁵ See Preliminary Results, 89 FR at 56296.

Scope of the Order ⁶

⁶ See Chlorinated Isocyanurates from Spain: Notice of Antidumping Duty Order, 70 FR 36562 (June 24, 2005) (Order).

The products covered by the Order are chlorinated isos from China.⁷

⁷ For a complete description of the scope of the Order, see Preliminary Results PDM at 2.

Final Results of Review

In the Preliminary Results, we calculated weighted-average dumping margins for

Ercros S.A. (Ercros) and Electroquimica de Hernani, S.A. (EHER) that are zero, and we did not calculate any margins which are not zero, de minimis, or determined entirely on the basis of facts available. Therefore, consistent with section 735(c)(5)(B) of the Act, in the Preliminary Results we applied to Industrias Quimicas Tamar S.L. (Industrias Quimicas Tamar), the company not selected for individual examination in this review, a margin of zero percent. We received no comments with respect to our preliminary finding. Therefore, for these final results, we continue to determine the following weighted-average dumping margins for the period June 1, 2022, through May 31, 2023:

Manufacturer/exporter | Weighted- average dumping margin (percent)
Ercros S.A | 0.00
Electroquimica de Hernani, S.A | 0.00
Industrias Quimicas Tamar S.L | 0.00

Disclosure

Normally, Commerce will disclose to the parties in a proceeding the calculations performed in connection with the final results within five days of any public announcement or, if there is no public announcement, within five days of the date of publication of the notice of final results in the Federal Register, in accordance with 19 CFR 351.224(b). Because Commerce received no comments and therefore, has not modified its analysis or calculations from the Preliminary Results,⁸ there are no new calculations to disclose for these final results of review in accordance with 19 CFR 351.224(b).

⁸ See Preliminary Results.

Assessment Rates

Pursuant to section 751(a)(2)(C) of the Act and 19 CFR 351.212(b)(1), Commerce has determined in these final results of this review, and U.S. Customs and Border Protection (CBP) shall assess, antidumping duties on all appropriate entries of subject merchandise during the POR.

Pursuant to 19 CFR 351.212(b)(1), we calculated importer-specific ad valorem duty assessment rates based on the ratio of the total amount of dumping calculated for examined sales to each importer to the total entered value of those sales. Where an importer-specific assessment rate is zero or de minimis within the meaning of 19 CFR 351.106(c)(1), we will instruct CBP to liquidate the appropriate entries without regard to antidumping duties.

In accordance with Commerce's “automatic assessment” practice, for entries of subject merchandise that entered the United States during the POR that were produced by each respondent for which it did not know that its merchandise was destined to the United States, Commerce will instruct CBP to liquidate unreviewed entries at the all-others rate (i.e., 24.83 percent),⁹ if there is no rate for the intermediate company(ies) involved in the transaction.¹⁰

⁹ See Order.

¹⁰ For a full discussion of this practice, see Antidumping and Countervailing Duty Proceedings: Assessment of Antidumping Duties, 68 FR 23954 (May 6, 2003).

Commerce intends to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of chlorinated isos from Spain entered, or withdrawn from warehouse, for consumption on or after the publication date of this notice in the Federal Register, as provided by section 751(a)(2)(C) of the Act: (1) the cash deposit rate for the companies under review will be equal to the weighted-average dumping margin listed in the “Final Results of Review” section above (except, if the rate is zero or de minimis, no cash deposit will be required); (2) for merchandise that was exported by a company that is not under review and the company has a company-specific cash deposit rate from a completed segment of this proceeding, the cash deposit rate will continue to be the company-specific cash deposit rate from a completed segment of the proceeding that is currently applicable to the company; (3) if the exporter of the subject merchandise was not covered by this review or a previously completed segment of this proceeding, but the producer of the subject merchandise was covered, then the cash deposit rate will be equal to the company-specific cash deposit rate from a completed segment of this proceeding that is currently applicable to the producer of the subject merchandise; and, (4) if neither the exporter nor the producer of the subject merchandise was covered by this review or a previously completed segment of this proceeding, then the cash deposit rate will be 24.83 percent ad valorem, the all-others rate established in the less than fair value investigation.¹¹ These cash deposit requirements, when imposed, shall remain in effect until further notice.

¹¹ See Order.

Notification to Importers

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a)(1) and 777(i) of the Act, and 19 CFR 351.221(b)(5).

Dated: January 28, 2025.
Abdelali Elouaradia,
Acting Assistant Secretary for Enforcement and Compliance.

[FR Doc. 2025-02216 Filed 2-3-25; 8:45 am]

BILLING CODE 3510-DS-P